ENVIRONMENTAL PROTECTION AGENCY

[ER-FRL-6630-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002, (67 FR 11992).

Draft EISs

ERP No. D-DOE-L05224-WA Rating LO, Maiden Wind Farm Project, Proposes to Construct and Operate up to 494 megawatts (MW) Wind Generation on Privately- and Publicly-owned Property, Conditional Use Permits, Benton and Yakima Counties, WA.

Summary: EPA has no significant concerns with the project.

ERP No. D-FHW-F40404-MN Rating EO2, Trunk Highway (TH) 53 Project, Transportation Improvements, from 1.2 km (¾ mile) South of St. Louis County Road 307 to the South City Limits of Cook, NPDES Permit, COE Section 10 and 404 Permits, St. Louis County, MN.

Summary: EPA expressed environmental objections regarding the magnitude of wetland impacts, lack of a detailed wetland mitigation plan, impacts to U.S. Forest Service land, and possible forest fragmentation and wildlife habitat issues. EPA requested that additional information on wetland mitigation, forest fragmentation and wildlife habitat impacts be developed and taken into consideration when identifying a preferred alternative.

ERP No. D-FHW-H40403-KS Rating EC2, US 59 Highway Construction Improvements, Lawrence to Ottawa, Funding, NPDES Permit Issuance and Possible US Army COE Permit Issuance, Douglas and Franklin Counties, KS.

Summary: EPA expressed environmental concerns with the degree of information provided on cultural resources, noise impacts, and endangered species. EPA requested that appropriate mitigation measures be described in more detail for these three project impacts.

ERP No. D-NPS-D65025-WV Rating LO, National Coal Heritage Area, Strategic Management Action Plan, Implementation, Boone, Cabal, Layette, Logan, McDowell, Mercer, Mingo, Raleigh, Summers, Wayne and Wyoming Counties, WV.

Summary: EPA expressed lack of objections to the preferred alternative.

Final EISs

ERP No. F-AFS-F65029-IL Midewin National Tallgrass, Proposed Land and Resource Management Plan, Implementation, Prairie Plan Development, Will County, IL.

Summary: EPA has no objection to the action as proposed since the final EIS addressed previous concerns regarding water quality, preserving wetland functions, invasive species, and non-target agricultural practice impacts.

ERP No. F-BLM-K67052-NV Newmont Gold Mining, South Operations Area Project Amendment, Operation and Expansion, Plan of Operations, Elko and Eureka Counties, NV.

Summary: EPA expressed continuing objections to the proposed project because the existing mine is currently out of compliance with its National Pollutant Discharge Elimination System (NPDES) discharge effluent limitations for total dissolved solids (TDS) and possibly other constituents. EPA recommended that BLM not approve the Plan of Operations for the proposed expansion until the mine comes into compliance with its permit. EPA also expressed concerns regarding the acid generating potential of the waste rock, and recommended that BLM include specific commitments in its Record of Decision (ROD) to ensure the appropriate ratio of acid neutralizing waste rock to acid generating waste rock during disposal. EPA recommended that BLM consider additional monitoring and address any long-term bonding needs prior to issuance of the Plan of Operations.

ERP No. F-MMS-L03010-AK Liberty Development and Production Plan, Beaufort Sea Oil and Gas Development, Implementation, To Transport and Sell Oil to the U.S. and World Markets, Right-of-Way Application, Offshore Beaufort Sea Marine Environment and Onshore North Slope of Alaska Coastal Plan, AK.

Summary: No formal comment letter was sent to the preparing agency.

ERP No. F-USA-D11032-PA Fort Indiantown Gap National Guard Training Center, Training and Operations Enhancement, Pennsylvania National Guard (PANG), Annville, Dauphin and Lebanon Counties, PA.

Summary: EPA has no objection to the proposed action since previous issues were adequately addressed within the Final EIS.

Dated: June 18, 2002.
B. Katherine Biggs,
Associate Director, NEPA Compliance Division, Office of Federal Activities.

[FR Doc. 02-15727 Filed 6-20-02; 8:45 am]

BILLING CODE 6560-50-P